DEFENSE NUCLEAR FACILITIES SAFETY BOARD

Sunshine Act Notice

AGENCY: Defense Nuclear Facilities Safety Board.

ACTION: Notice of public meeting.

SUMMARY: Pursuant to the provisions of the “Government in the Sunshine Act” (5 U.S.C. 552b), notice is hereby given of the Defense Nuclear Facilities Safety Board's (Board) public hearing and meeting described below. The Board will conduct a public hearing and meeting pursuant to 42 U.S.C. 2286b and invites any interested persons or groups to present any comments, technical information, or data concerning safety issues related to the matters to be considered.

TIME AND DATE OF MEETING: 9 a.m., November 24, 2009.

PLACE: Defense Nuclear Facilities Safety Board, Public Hearing Room, 625 Indiana Avenue, NW., Suite 300, Washington, DC 20004-2001. Additionally, as a part of the Board's E-Government initiative, the meeting will be presented live through Internet video streaming. A link to the presentation will be available on the Board's Web site (http://www.dnfsb.gov).

STATUS: Open. While the Government in the Sunshine Act does not require that the scheduled discussion be conducted in a meeting, the Board has determined that an open meeting in this specific case furthers the public interests underlying both the Sunshine Act and the Board's enabling legislation.

MATTERS TO BE CONSIDERED: The Board will hold a series of public meetings to examine the Department of Energy's (DOE) implementation of Recommendation 2004-1, Oversight of Complex, High-Hazard Nuclear Operations. In 2003 and 2004, the Board conducted a series of eight public meetings that examined DOE's methods, and the proposed changes to those methods, for providing and ensuring adequate protection for the public health and safety and that of the workers at DOE's defense nuclear facilities. Based on the findings from these public meetings, the Board issued Recommendation 2004-1 on May 21, 2004. While the Board notes that progress has been made on many of the 22 commitments contained in DOE's Implementation Plan to Improve Oversight of Nuclear Operations (Revision 2, October 2006), major commitments remain incomplete, and areas continue to require greater attention from senior management if planned activities are to be completed. In addition, commitments previously declared complete must be reviewed and reinforced by cognizant managers to reaffirm the continued achievement of their purposes and functions. This series of public meetings will examine the overall implementation of Recommendation 2004-1 in light of the Recommendation's basic precepts: strengthen federal health and safety assurance; learn from internal and external operating experience; and revitalize the implementation of Integrated Safety Management. Of particular importance to the successful implementation of Recommendation 2004-1 is the direct and unbroken line of roles and responsibilities for the safety of nuclear operations, extending from the Secretary of Energy, Program Secretarial Officers, and the National Nuclear Security Administration (NNSA) to field offices and sites.

This hearing and meeting is intended to further assist the Board and DOE in their collective efforts to evaluate any needed improvements in the timeliness of issue resolution. The Board expects to hear presentations from the top leadership team of DOE and NNSA to outline the safety goals and safety management approach that DOE/NNSA is pursuing in the context of activities conducted under Recommendation 2004-1 and other DOE safety initiatives. The Board may also collect any other information relevant to health or safety of the workers and the public, with respect to Recommendation 2004-1. The public hearing portion of this proceeding is authorized by 42 U.S.C. 2286b.

CONTACT PERSON FOR MORE INFORMATION: Brian Grosner, General Manager, Defense Nuclear Facilities Safety Board, 625 Indiana Avenue, NW., Suite 700, Washington, DC 20004-2901, (800) 788-4016. This is a toll-free number.

SUPPLEMENTARY INFORMATION: Requests to speak at the hearing may be submitted in writing or by telephone. The Board asks that commentators describe the nature and scope of their oral presentation. Those who contact the Board prior to close of business on November 23, 2009, will be scheduled for time slots, beginning at approximately 12 p.m. The Board will post a schedule for those speakers who have contacted the Board before the hearing. The posting will be made at the entrance to the Public Hearing Room at the start of the 9 a.m. hearing and meeting. Anyone who wishes to comment or provide technical information or data may do so in writing, either in lieu of, or in addition to, making an oral presentation. The Board Members may question presenters to the extent deemed appropriate. Documents will be accepted at the meeting or may be sent to the Board's Washington, DC office. The Board will hold the record open until December 24, 2009, for the receipt of additional materials. A transcript of the meeting will be made available by the Board for inspection by the public at the Board's Washington office and at DOE's public reading room at the DOE Federal Building, 1000 Independence Avenue, SW., Washington, DC 20585. The Board specifically reserves its right to further schedule and otherwise regulate the course of the meeting and hearing, to recess, reconvene, postpone, or adjourn the meeting and hearing, conduct further reviews, and otherwise exercise its power under the Atomic Energy Act of 1954, as amended.

Dated: October 14, 2009.
John E. Mansfield,
Vice Chairman.

[FR Doc. E9-25326 Filed 10-16-09; 4:15 pm]

BILLING CODE 3670-01-P